DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2024, through May 31, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition;” and

2. Any allegation in a petition that the petitioner either:

a. “[S]ustained, or had significantly aggravated, any illness, disability, injury, or condition not set forth in the Vaccine Injury Table but which was caused by” one of the vaccines referred to in the Table; or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Amanda Harnisch, Phoenix, Arizona, Court of Federal Claims No: 24-0691V

2. Roberta Parker, Nashville, Tennessee, Court of Federal Claims No: 24-0692V

3. Bernard Stewart, Pasadena, Maryland, Court of Federal Claims No: 24-0693V

4. McKenzie R. Miller, Rochester, New York, Court of Federal Claims No: 24-0694V

5. Arianna White, East Lansing, Michigan, Court of Federal Claims No: 24-0697V

6. Jean Modglin, Anna, Illinois, Court of Federal Claims No: 24-0702V

7. William Caruso, Port St. Lucie, Florida, Court of Federal Claims No: 24-0705V

8. Robert Cavallo, Boston, Massachusetts, Court of Federal Claims No: 24-0706V

9. David Tomala, Los Angeles, California, Court of Federal Claims No: 24-0707V

10. Linn Tanzman, Shelter Island, New York, Court of Federal Claims No: 24-0708V

11. Adam Yeoman, Green Bay, Wisconsin, Court of Federal Claims No: 24-0709V

12. Amelia Radovanovici, Durango, Colorado, Court of Federal Claims No: 24-0710V

13. Christina Molnar, Willoughby Hills, Ohio, Court of Federal Claims No: 24-0712V

14. Alex Willenborg, Hyde Park, New York, Court of Federal Claims No: 24-0713V

15. Yolanda Stewart, Clarksville, Tennessee, Court of Federal Claims No: 24-0714V

16. Laura Stevens, Austin, Texas, Court of Federal Claims No: 24-0716V

17. James O'Dell, Boston, Massachusetts, Court of Federal Claims No: 24-0720V

18. Valerie Edwards on behalf of Z. G., New York, New York, Court of Federal Claims No: 24-0722V

19. Richard Roberts, Salida, Colorado, Court of Federal Claims No: 24-0724V

20. Nannie Diggs, Poquoson, Virginia, Court of Federal Claims No: 24-0725V

21. Michelle Emery, Shawnee, Tennessee, Court of Federal Claims No: 24-0726V

22. Jerry Wayne Roden, Chattanooga, Tennessee, Court of Federal Claims No: 24-0729V

23. Anthony Farrell, Peoria, Arizona, Court of Federal Claims No: 24-0731V

24. Aimee Alvarez, Boston, Massachusetts, Court of Federal Claims No: 24-0732V

25. James Rice, Weatherford, Texas, Court of Federal Claims No: 24-0733V

26. Donna Kostuch, White Bear Lake, Minnesota, Court of Federal Claims No: 24-0737V

27. Lori Thompson, Bowling Green, Kentucky, Court of Federal Claims No: 24-0738V

28. Andrew Davidson, San Diego, California, Court of Federal Claims No: 24-0739V

29. Dennis Dombrowski, II, Ortonville, Michigan, Court of Federal Claims No: 24-0741V

30. Tiffany Crider, Jackson, Tennessee, Court of Federal Claims No: 24-0744V

31. Chloi Pampallis, San Francisco, California, Court of Federal Claims No: 24-0745V

32. Anthony Vicari, Lynden, Washington, Court of Federal Claims No: 24-0746V

33. Joan Western, Mount Pleasant, Wisconsin, Court of Federal Claims No: 24-0747V

34. Sherian Smith, Upland, Pennsylvania, Court of Federal Claims No: 24-0748V

35. Madelyn Clark, Crystal Lake, Illinois, Court of Federal Claims No: 24-0749V

36. Roselyne Omwega, Albuquerque, New Mexico, Court of Federal Claims No: 24-0752V

37. Junious Nielsen, Rochester, New York, Court of Federal Claims No: 24-0753V

38. Robert Moseley, Boston, Massachusetts, Court of Federal Claims No: 24-0754V

39. Kathy L. Troen, Pella, Iowa, Court of Federal Claims No: 24-0757V

40. Donnie Yinger, Albany, New York, Court of Federal Claims No: 24-0758V

41. Junious Nielsen, Webster, New York, Court of Federal Claims No: 24-0759V

42. Junious Nielsen, Webster, New York, Court of Federal Claims No: 24-0760V

43. Nancy A. Carroll, Rochester, Minnesota, Court of Federal Claims No: 24-0762V

44. Kristine Albertson, Woodstock, Georgia, Court of Federal Claims No: 24-0765V

45. Neil Saint, Evans, Georgia, Court of Federal Claims No: 24-0768V

46. Rebecca Dobbins, Easley, South Carolina, Court of Federal Claims No: 24-0769V

47. Joanna Ratcliffe, Los Angeles, California, Court of Federal Claims No: 24-0770V

48. Andrea Borah, New York, New York, Court of Federal Claims No: 24-0772V

49. Rhona Page, San Diego, California, Court of Federal Claims No: 24-0774V

50. Michelle DePalma, Phoenix, Arizona, Court of Federal Claims No: 24-0776V

51. Jessica Corso, Simpsonville, South Carolina, Court of Federal Claims No: 24-0777V

52. Jennifer Allen, Mason, Ohio, Court of Federal Claims No: 24-0778V

53. Brittany Smith-Gordon, Warminster, Pennsylvania, Court of Federal Claims No: 24-0779V

54. Saeeda Syed, Goodyear, Arizona, Court of Federal Claims No: 24-0780V

55. Simone Bui, Newburyport, Massachusetts, Court of Federal Claims No: 24-0783V

56. Ashley Phillips on behalf of E. A., Los Angeles, California, Court of Federal Claims No: 24-0784V

57. Ella Coleman-Artz, Coalport, Pennsylvania, Court of Federal Claims No: 24-0785V

58. Rebecca Feller, Council Bluffs, Iowa, Court of Federal Claims No: 24-0786V

59. Susan DiMillo, Lockport, New York, Court of Federal Claims No: 24-0789V

60. Ronald Samson, Council Bluffs, Iowa, Court of Federal Claims No: 24-0790V

61. Eric Gervasi, Philadelphia, Pennsylvania, Court of Federal Claims No: 24-0791V

62. Julie Ann Kueber on behalf of S. K., Indianapolis, Indiana, Court of Federal Claims No: 24-0793V

63. Michaela Strickland, Johnson City, Tennessee, Court of Federal Claims No: 24-0794V

64. Kelsey Leeman, Damariscotta, Maine, Court of Federal Claims No: 24-0796V

65. Timothy Kirkwood, Orlando, Florida, Court of Federal Claims No: 24-0798V

66. David Trainor, East Bridgewater, Massachusetts, Court of Federal Claims No: 24-0801V

67. Jason Horn, Woodridge, Illinois, Court of Federal Claims No: 24-0802V

68. Yulia Ogorodnikova on behalf of L.O., Phoenix, Arizona, Court of Federal Claims No: 24-0803V

69. Isak Ladegaard, Champaign, Illinois, Court of Federal Claims No: 24-0804V

70. Deatrice F. Ruff, Waxhaw, North Carolina, Court of Federal Claims No: 24-0806V

71. Sherry Ellsworth, Lumberton, North Carolina, Court of Federal Claims No: 24-0812V

72. Judith Gratton, Holliston, Massachusetts, Court of Federal Claims No: 24-0813V

73. Rachel Tupitza, Erie, Pennsylvania, Court of Federal Claims No: 24-0814V

74. Haley Labian, Kalamazoo, Wisconsin, Court of Federal Claims No: 24-0818V

75. Marilenis Perez, Boston, Massachusetts, Court of Federal Claims No: 24-0820V

76. Charles Tucker, Hines, Illinois, Court of Federal Claims No: 24-0821V

77. Steven Williams, Washington, District of Columbia, Court of Federal Claims No: 24-0822V

78. Claire Forchheimer, San Jose, California, Court of Federal Claims No: 24-0823V

79. Edward Vincent Russell, Morehead City, North Carolina, Court of Federal Claims No: 24-0824V

80. Lisa West-Thomas, Tacoma, Washington, Court of Federal Claims No: 24-0827V

81. Colleen Ortiz, Manahawkin, New Jersey, Court of Federal Claims No: 24-0828V

82. Michael Clayton, Aurora, Colorado, Court of Federal Claims No: 24-0829V

83. Melissa Ward, Cantonment, Florida, Court of Federal Claims No: 24-0830V

84. Aline Crawford, Chalmette, Louisiana, Court of Federal Claims No: 24-0831V

85. Christopher Seter, Franklin, Tennessee, Court of Federal Claims No: 24-0832V

86. Louis Quick, Lakeville, Minnesota, Court of Federal Claims No: 24-0833V

87. Jennifer Kuch, Saginaw, Michigan, Court of Federal Claims No: 24-0835V

88. Yves Boyer, New York, New York, Court of Federal Claims No: 24-0838V

89. Celeste Sandbank, Roseville, California, Court of Federal Claims No: 24-0839V

90. Eugene Gryga, Bryn Mawr, Pennsylvania, Court of Federal Claims No: 24-0841V

91. Jamie Drake, Newport News, Virginia, Court of Federal Claims No: 24-0842V

92. Christy Lantz, Salisbury, Maryland, Court of Federal Claims No: 24-0844V

93. Tracy Paustian on behalf of J. P., Los Angeles, California, Court of Federal Claims No: 24-0846V

94. Mary Annalee Hull, Honolulu, Hawaii, Court of Federal Claims No: 24-0847V

[FR Doc. 2024-15821 Filed 7-17-24; 8:45 am]

BILLING CODE 4165-15-P